DEPARTMENT OF VETERANS AFFAIRS

Privacy Act of 1974; System of Records

AGENCY: Department of Veterans Affairs.

ACTION: Notice of Amendment to System of Records.

SUMMARY: As required by the Privacy Act of 1974, 5 U.S.C. 552a(e), notice is hereby given that the Department of Veteran Affairs (VA) is amending the system of records currently entitled “Health Professional Scholarship Program—VA” (73VA14) as set forth in the Federal Register 74 FR 62390. VA is amending the system of records by revising the System Name, System Location, Categories of Individuals Covered by the System, Categories of Records in the System, Authority for Maintenance, Purpose, Storage, Retrievability, Safeguards, System Manager(s) and Address, Notification Procedure, Record Access Procedure, and Records Source Category. VA is republishing the system notice in its entirety.

ADDRESSES: Written comments concerning the proposed new system of records may be submitted through www.regulations.gov; by mail or hand-delivery to Director, Regulations Management (02REG), Department of Veterans Affairs, 810 Vermont Avenue NW., Room 1068, Washington, DC 20420; or by fax to (202) 273-9026. All comments received will be available for public inspection in the Office of Regulation Policy and Management, Room 1063B, between the hours of 8:00 a.m. and 4:30 p.m., Monday through Friday (except holidays). Please call (202) 461-4902 for an appointment. In addition, during the comment period, comments may be viewed online through the Federal Docket Management System (FDMS) at www.regulations.gov.

FOR FURTHER INFORMATION CONTACT: Veterans Health Administration (VHA) Privacy Officer, Department of Veterans Affairs, 810 Vermont Avenue NW., Washington, DC 20420; telephone (704) 245-2492.

SUPPLEMENTARY INFORMATION: VA is renaming the system of records from Health Professional Scholarship Program—VA to Health Professional Scholarship Program, and Visual Impairment and Orientation and Mobility Professional Scholarship Program—VA. The system number is changed from 73VA14 to 73VA10A2A to reflect the current organizational alignment.

The section titled “The Location” has been amended to remove that records will be maintained at the Office of Academic Affiliations (OAA), Veterans Health Administration, Veterans Administration Central Office (VACO), 810 Vermont Avenue NW., Washington, DC 20420, and the Data Processing Center, Department of Veterans Affairs, 1615 East Woodward Street, Austin, TX 78772 to include that records will be maintained at the Healthcare Talent Management (HTM), Scholarships and Nursing Education Office, Veterans Health Administration, Department of Veterans Affairs, 1250 Poydras Street, Suite #1000, New Orleans, LA, 70113.

The section titled “The Category of Individuals Covered by the System” has been amended to include individuals who apply for and are awarded scholarships under the provisions of VA's Visual Impairment and Orientation and Mobility Professional Scholarship Program (VIOMPSP).

The section titled “The Category of Records in the System” is amended to reflect mailing and email addresses, employing facility number (if applicable), home and work telephone numbers, Social Security number, an alternative person of contact, job title, current education level, degree sought, description of the academic program covered by the scholarship, name and address of the academic institution, the starting and completion dates of the employee's academic program, and awards and activities. Records may include memoranda submitted by the employees, calculations for service obligations, copies of letters and memoranda from employees making the requests and in correspondence to employees and appropriate local program officials delineating the decisions on such requests. Account number and routing number, the obligated service incurred, and the location, start, and end dates of the service obligation period are also included.

The Authority for Maintenance is being changed from Title 38, U.S.C. 210(c), 4141-4146 and 4118 to Title 38, U.S.C. 7611-7619, 7635-7636.

The section titled “The Purpose” in this system of records is being amended to reflect Public Law 111-163, signed on May 5, 2010, which was reauthorized by the Health Professional Scholarship Program (HPSP) through December 31, 2014, and established the VIOMPSP. The records and information may be used for determining and documenting individual applicant eligibility for scholarship awards, selecting applicants to receive awards, calculating the service commitments for program participants, ensuring program financial accountability, monitoring educational progress of participants, monitoring the employment status of scholarship participants during their periods of obligated service, terminating the employee from the program (upon completion or breach), and evaluating and reporting program results and effectiveness. The information would also be used to determine the financial liability of participants who breach their HPSP or VIOMPSP agreement.

The section titled “Storage” is being amended to state that records are maintained on paper, electronic media, and computer printouts by HTM. Records stored on electronic media are maintained on a VA-approved and managed, password protected, secure local area network (LAN) located within HTM office spaces.

The section titled “Retrievability” is being amended to include an equivalent participant account number assigned by HTM. Safeguards is being amended to include records stored on electronic media and maintained on a VA-approved and managed, password protected, secure LAN located within HTM office spaces.

The sections titled “System Manager(s) and Address”, “Notification Procedure”, and “Record Access Procedure” have been amended to state: Director, HTM (10A2A8), Veterans Health Administration, Department of Veterans Affairs, 1250 Poydras Street, Suite #1000, New Orleans, Louisiana 70113.

The section titled “Records Source Category” has been amended to remove the VA Data Processing Center (DPC).

Approved: April 22, 2013.
Jose D. Riojas,
Interim Chief of Staff, Department of Veterans Affairs.

73VA10A2A

SYSTEM NAME:

Health Professional Scholarship Program, and Visual Impairment and Orientation and Mobility Professional Scholarship Program—VA.

SYSTEM LOCATION:

Active records will be maintained at HTM, Scholarships and Nursing Education Office, Veterans Health Administration, Department of Veterans Affairs, 1250 Poydras Street, Suite #1000, New Orleans, LA, 70113. Complete records will be maintained only at this address.

CATEGORIES OF INDIVIDUALS COVERED BY THE SYSTEM:

Individuals who apply for and are awarded scholarships under the provisions of the Veterans Health Administration Health Professional Scholarship Program (HPSP) in a field leading to an appointment under paragraph (1) or (3) of section 7401 of Title 38, and individuals who apply for and are awarded scholarships under the provisions of the Veterans Health Administration Visual Impairment and Orientation and Mobility Professional Scholarship Program (VIOMPSP) in a program of study leading to an appointment as a qualified blind rehabilitation specialist.

CATEGORIES OF RECORDS IN THE SYSTEM:

Records (or information contained in records) in this system may include: personal identification information related to the application material, to award processes, to employment, to obligated service, and to requests for waivers or suspensions of obligated service or financial indebtedness to VA. The application for an HPSP or VIOMPSP award includes the applicant's full name, mailing and email addresses, employing facility number (if applicable), home and work telephone numbers, Social Security number, an alternative person of contact, job title, current education level, degree sought, description of the academic program covered by the scholarship, name and address of the academic institution, the starting and completion dates of the employee's academic program, awards and activities. Records may include memoranda submitted by the employees, calculations for the service obligations, copies of letters and memoranda from employees making the requests and in correspondence to employees and appropriate local program officials delineating the decisions on such requests. Records for applicants selected will also include the award amount, the name of the participant's financial institution, account number and routing number, the obligated service incurred, and the location, start, and end dates of the service obligation period.

AUTHORITY FOR MAINTENANCE OF THE SYSTEM:

38 U.S.C. §§ 7611-7619, 7635-7636.

PURPOSE(S):

These records support the HPSP and VIOMPSP. The HPSP was established by Public Law 96-330, and awarded scholarships to 3,330 students between 1982 through 1995 earning baccalaureate and master's degrees in nursing and other health professions. Public Law 111-163, signed on May 5, 2010, reauthorized the HPSP through December 31, 2014, and established the VIOMPSP. The records and information may be used for determining and documenting individual applicant eligibility for scholarship awards, selecting applicants to receive awards, calculating the service commitments for program participants, ensuring program financial accountability, monitoring educational progress of participants, monitoring the employment status of scholarship participants during their periods of obligated service, terminating the employee from the program (upon completion or breach), and evaluating and reporting program results and effectiveness. The information would also be used to determine the financial liability of participants who breach their HPSP or VIOMPSP agreement.

ROUTINE USES OF RECORDS MAINTAINED IN THE SYSTEM, INCLUDING CATEGORIES OF USERS AND THE PURPOSES OF SUCH USES:

To the extent that records contained in the system include information protected by 45 CFR Parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR Parts 160 and 164 permitting disclosure.

1. The record of an individual who is covered by this system may be disclosed to a member of Congress or staff person acting for the member when the member or staff person requests the record on behalf of and at the request of that individual.

2. Any information in this system may be disclosed to a Federal, state, or local agency, upon its official request, to the extent that it is relevant and necessary to that agency's decision on: the hiring, transfer or retention of an employee, the issuance of a security clearance, the letting of a contract, or the issuance or continuance of a license, grant or other benefit by that agency.

3. Any information in this system may be disclosed to a Federal, state, or local agency maintaining civil or criminal violation records, or other pertinent information such as prior employment history, prior Federal employment background investigations, and personal or educational background in order for VA to obtain information relevant to the hiring, transfer or retention of an employee, the letting of a contract, the granting of a security clearance, or the issuance of a grant or other benefit.

4. Any information in this system may be disclosed to a Federal agency in order to determine if an applicant has an obligation for service under another Federal program, thus rendering the applicant ineligible for a VA scholarship (38 U.S.C. 4142(a)(4)).

5. Any information in this system pertaining to individuals eligible for scholarships may be disclosed to educational institutions in order to assist in the administration of this program.

6. Award payment information may be disclosed to the Department of Treasury to permit delivery of scholarship-related checks to students and to educational institutions.

7. Any information in this system, including available identifying information regarding the debtor, such as name, place of birth, and date of birth of the debtor may be disclosed under this routine use to Federal, state, or consumer reporting agencies in order to obtain current name, address, locator, and credit report in connection with any proceeding for the collection of an amount owed to the United States by virtue of an individual's participation in the VA Health Professional Scholarship Program and Visual Impairment and Orientation and Mobility Professional Scholarship Program.

8. Any information in this system may be disclosed to the Department of Justice (DOJ), including U.S. Attorneys, in order for VA to respond to pleadings, interrogatories, orders or inquiries from DOJ, and to supply DOJ with information in any phase of litigation or in any case or controversy involving VA.

9. Any information in this system may be disclosed to educational institutions, previous employers or individuals providing references to verify the authenticity of the application.

10. Records from this system of records may be disclosed to a Federal Agency or to a state or local government licensing board and to the Federation of State Medical Boards or a similar non-government entity which maintains records concerning individuals' employment histories or concerning the issuance, retention, or revocation of licenses, certifications, or registration necessary to practice an occupation, profession, or specialty, in order for the Agency to obtain information relevant to an Agency decision concerning the hiring, retention, or termination of an employee or to inform a Federal Agency, licensing boards, or the appropriate nongovernment entities about the health care practices of a terminated, resigned, or retired health care employee whose professional health care activity so significantly failed to conform to generally accepted standards of professional medical practice as to raise reasonable concern for the health and safety of patients in the private sector or from another Federal agency. These records may also be disclosed as part of an ongoing computer matching program to accomplish these purposes.

11. Identifying information in this system, including name, address, Social Security number, and other information as is reasonably necessary to identify such individual, may be disclosed to the National Practitioner Data Bank at the time of hiring or clinical privileging/reprivileging of health care practitioners, and other times as deemed necessary by VA, in order for VA to obtain information relevant to a Department decision concerning the hiring privileging/reprivileging, retention, or termination of the applicant or employee.

12. Relevant information from this system of records may be disclosed to the National Practitioner Data Bank or State Licensing Board in the state(s) in which a practitioner is licensed, in which the VA facility is located, or in which an act or omission occurred upon which a medical malpractice claim was based when VA reports information concerning: (1) Any payment for the benefit of a physician, dentist, or other licensed health care practitioner which was made as the result of a settlement or judgment of a claim of medical malpractice if an appropriate determination is made in accordance with agency policy that payment was related to substandard care, professional incompetence, or professional misconduct on the part of the individual; (2) a final decision which relates to possible incompetence or improper professional conduct that adversely affects the clinical privileges of a physician or dentist for a period longer than 30 days; or (3) the acceptance of the surrender of clinical privileges or any restriction of such privileges by a physician or dentist either while under investigation by the health care entity relating to possible incompetence or improper professional conduct, or in return for not conducting such an investigation or proceeding. These records may also be disclosed as part of a computer matching program to accomplish these purposes.

13. Disclosure may be made to the National Archives and Records Administration (NARA) and the General Services Administration (GSA) in records management inspections conducted under authority of Title 44 U.S.C.

14. Disclosure of relevant information may be made to individuals, organizations, private or public agencies, or other entities with whom VA has a contract or agreement, or where there is a subcontract to perform such services as VA may deem practicable for the purposes of laws administered by VA, in order for the contractor or subcontractor to perform the services of the contract or agreement.

15. VA may disclose on its own initiative any information in the system, except the names and home addresses of Veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, or order issued pursuant thereto.

16. Disclosure to other Federal agencies may be made to assist such agencies in preventing and detecting possible fraud or abuse by individuals in their operations and programs.

17. VA may, on its own initiative, disclose any information or records to appropriate agencies, entities, and persons when: (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

POLICIES AND PRACTICES FOR STORING, RETRIEVING, ACCESSING, RETAINING, AND DISPOSING OF RECORDS IN THE SYSTEM STORAGE:

Records are maintained on paper, electronic media, and computer printouts by HTM. Records stored on electronic media are maintained on a VA-approved and managed, password protected, secure local area network (LAN) located within HTM office spaces and safeguarded as described above.

RETRIEVABILITY:

Records are retrievable by use of the award number, or an equivalent participant account number assigned by HTM, Social Security number, and the name of the individual.

SAFEGUARDS:

Access to the basic file in HTM is restricted to authorized VA employees and vendors. Access to the office spaces where electronic media is maintained within HTM is further restricted to specifically authorized employees and is protected by contracted building security services. Records (typically computer printouts) at HTM will be kept in locked files and made available only to authorized personnel on a need to-know basis. During non-working hours the file is locked and the building is protected by contracted building security services. Records stored on electronic media are maintained on a VA-approved and managed, password protected, secure LAN located within HTM office spaces and safeguarded as described above.

RETENTION AND DISPOSAL:

Records will be maintained and disposed of in accordance with records disposition authority approved by the Archivist of the United States.

SYSTEM MANAGER(S) AND ADDRESS:

Director, Healthcare Talent Management (10A2A8), Veterans Health Administration, Department of Veterans Affairs, 1250 Poydras Street, Suite #1000, New Orleans, Louisiana 70113.

NOTIFICATION PROCEDURE:

Any individual who wishes to determine whether a record is being maintained in this system under his or her name or other personal identifier, or wants to determine the contents of such records, should submit a written request or apply in person to the Director, Healthcare Talent Management (10A2A8), Veterans Health Administration, Department of Veterans Affairs, 1250 Poydras Street, Suite #1000, New Orleans, Louisiana 70113.

RECORD ACCESS PROCEDURE:

Individuals seeking information regarding access to and contesting of VA records in this system may write, call, or visit the Director, Healthcare Talent Management (10A2A8), Veterans Health Administration, Department of Veterans Affairs, 1250 Poydras Street, Suite #1000, New Orleans, Louisiana 70113. The telephone number is (504) 565-4900.

CONTESTING RECORD PROCEDURES:

(See Record Access Procedures above.)

RECORD SOURCE CATEGORIES:

Information contained in the records is obtained from the individual, references given in application material, educational institutions, VA medical facilities, other Federal agencies, state agencies, and consumer reporting agencies.

[FR Doc. 2013-11158 Filed 5-9-13; 8:45 am]

BILLING CODE P